DEPARTMENT OF TRANSPORTATION

Federal Railroad Administration

Notice Rescinding Eight Notices of Intent To Prepare Environmental Impact Statements

AGENCY: Federal Railroad Administration (FRA), U.S. Department of Transportation (DOT).

ACTION: Notice.

SUMMARY: The Federal Railroad Administration (FRA) is issuing this notice to advise the public that FRA is rescinding the Notices of Intent (NOI) for the following Environmental Impact Statements (EIS): The Pennsylvania Maglev Proposal; the Tupelo Railroad Relocation Planning and Environmental Study; the Tier 2 EIS for the Chicago to Joliet High-Speed Rail (HSR) Project; the Tier 2 EIS for the HSR Project between Granite City, IL to St. Louis, MO HSR Project; EIS for the ACEforward Program; EIS for the Milwaukee, WI to Minneapolis, MN Rail Corridor; 7) the Los Angeles to San Louis Obispo North (LOSSAN) Rail Corridor Project; and 8) the Chicago to Detroit/Pontiac Corridor Investment Program.

FOR FURTHER INFORMATION CONTACT: For additional information please contact Michael Johnsen, Supervisory Environmental Protection Specialist, at the Federal Railroad Administration, 1200 New Jersey Avenue SE, Washington, DC 20590; telephone: 202-493-0845; or email: Michael.Johnsen@dot.gov.

SUPPLEMENTARY INFORMATION: FRA has identified several projects that, for various reasons, are no longer advancing through FRA environmental review and has therefore determined it is appropriate to rescind the applicable NOI to prepare an EIS. The following NOIs are being rescinded:

• Pennsylvania Maglev Proposal: FRA published the NOI on July 19, 2001. The purpose of the EIS was to further explore the feasibility of a magnetic levitation train system linking Pittsburgh International Airport to Pittsburgh and its eastern suburbs in Allegheny and Westmoreland Counties. However, the project sponsor has since decided not to pursue a maglev project in this corridor.

• Relocation or Reconstruction of Rail Lines in Tupelo, MS: FRA published the NOI on June 29, 2006 to study the potential relocation or reconstruction of rail lines in the Tupelo, MS central business district. However, the project sponsor has not advanced the environmental review and has not identified current or foreseeable funding for the project.

• Chicago to Joliet High-Speed Rail (HSR) Project: FRA published the NOI on February 18, 2014 to study potential HSR service along the Rock Island District Railroad corridor between Chicago and Joliet, IL. The project sponsor has informed FRA that it does not intend to pursue the environmental review for the project at this time.

• HSR Project between Granite City, Illinois to St. Louis, Missouri: FRA published this NOI on February 18, 2014 to study the increase of rail capacity associated with the Mississippi River crossings in the Granite City to St. Louis Tier 2 EIS. However, the project sponsor has informed FRA that it does not intend to pursue the environmental review for the project at this time.

• ACEforward Program: FRA published the NOI on September 18, 2013. The purpose of the EIS was to study the expansion of existing rail service between Stockton and San Jose, CA and extension of new rail service to Modesto and Merced, CA. However, the project sponsor has determined that the orginial scope for the ACEforward EIS is no longer consistent with regional planning efforts for improved rail service throughout the corridor.

• Milwaukee, WI to Minneapolis, MN Rail Corridor: FRA published a revised NOI on May 24, 2013. The purpose of the EIS is to evaluate ways to improve passenger rail service from the Twin Cities, MN to Milwaukee, WI. The project sponsor has informed FRA that it does not wish to pursue the environmental review for the project at this time.

• LOSSAN Rail Corridor Project: FRA published the NOI for this project on January 1, 2011. The purpose of the EIS was to study ways to improve passenger rail service from Los Angeles through San Louis Obispo. The NOI is being rescinded as the service options on this corridor have been reevaluated in the updated California State Rail Plan.

• Chicago to Detroit/Pontiac Corridor Investment Program: FRA published the NOI on August 31, 2012. The purpose of the EIS was to study potential service options and corresponding infrastructure improvements between Chicago, IL, and Pontiac, MI. The project sponsor and FRA have agreed to rescind the NOI, however the associated alternatives analysis and service development plan may be used for further environmental reviews, where necessary.

Issued in Washington, DC.
Jamie Rennert,
Office Director, Office of Program Delivery.

[FR Doc. 2018-25993 Filed 11-29-18; 8:45 a.m.]

BILLING CODE 4910-06-P